DEPARTMENT OF TRANSPORTATION

Federal Railroad Administration

[Docket Number FRA-2018-0067]

Petition for Waiver of Compliance

Under part 211 of Title 49 Code of Federal Regulations (CFR), this document provides the public notice that on August 6, 2018, the Federal Railroad Administration (FRA) received a petition from the San Mateo County Transit District, on behalf of Caltrain, for a waiver of compliance from certain provisions of the Federal railroad safety regulations contained at 49 CFR parts 229, 231, and 238. Specifically, Caltrain seeks a waiver of compliance for their new Stadler-built KISS Electric Multiple Unit (EMU) railcars specific to the passenger area emergency brake valve, the clearance above top of rail, and the safety appliances. FRA assigned the petition Docket Number FRA-2018-0067.

First, Caltrain seeks a waiver of compliance from the emergency brake valve requirements of 49 CFR 229.47(b) and 238.305(c)(5), which require certain equipment to be equipped with an emergency brake valve accessible to another crew member in the passenger compartment and have the words “Emergency Brake Valve” legibly stenciled or marked near each valve, or be shown on an adjacent badge plate. The Caltrain EMU utilizes pull handles to provide a means for crew members and passengers to initiate an emergency brake condition. The vehicle is equipped with a modern electro-pneumatic brake system that does not rely on a conventional train-lined brake pipe to initiate an emergency brake command to the train. Instead, emergency brake commands are transmitted using electronic signals using fail-safe design principles. When a pull handle is activated (or “pulled”), propulsion is cut and irretrievable emergency brake is initiated. The handle can only be reset using a crew key. There is one emergency brake pull handle per doorway area, four total per car, and each is appropriately stenciled with the nomenclature “Emergency Brake.” Although the Caltrain EMU emergency brake pull handles are not technically “valves” as specified in the regulatory language, Caltrain contends they perform the same function as the required Emergency Brake Valve and satisfy the requirements of 49 CFR 229.47(b) and 238.305(c)(5).

Second, Caltrain seeks a waiver of compliance from the clearance above-top-of-rail (ATOR) requirements of 49 CFR 229.71. The Caltrain EMU will utilize Magnetic Track Brakes that are mounted on each non-powered (i.e., trailer) truck of each car. The track brake has two positions: Stowed and deployed. In its normal stowed position, the track brake is positioned 3.9 inches ATOR. Under maximum permissible wear conditions, the track brake assembly will remain 2.5 inches ATOR. In the deployed position, the track brake is in contact with the top of rail thus violating the minimum required clearance specified in 49 CFR 229.71. Caltrain believes the use of the magnetic track brake enhances the braking capabilities of the vehicle and only violates the required clearance when activated and in use.

Third, Caltrain seeks a waiver of compliance from the safety appliance requirements of 49 CFR 229.71(b), Sill steps, (c) Side handholds, (d) End handholds, (f) Side-door steps, and (g) Uncoupling levers, as well as 49 CFR 238.229 and 238.230(d). Caltrain believes sill steps and side handholds are intended to allow railroad employees to ride the outside of the vehicle during switching moves to manually couple/uncouple cars and make up manual hose connections. Similarly, end handholds and uncoupling levers are intended to provide a secure hand grip for a railroad worker while performing manual coupling or uncoupling of conventional rail vehicles where it is necessary for the mechanical end connections to be connected or disconnected manually from the ground by a railway employee. Not only will Caltrain operating rules prohibit personnel to mount the exterior of the EMU, but Caltrain will not use the EMU to make any equipment moves within yards, storage tracks, or other areas where personnel would be required to utilize any exterior steps or handholds. The EMU automatic coupler design allows all mechanical, pneumatic, and electrical end connections to be accomplished without manual intervention and without requiring personnel to leave the vehicle. Lastly, the Caltrain EMU vehicle is configured with both high-level and low-level side entry doors. When the EMU is first placed into service, only the low-level doors will be utilized and are accessed from Caltrain's existing 8-inch high platforms. Each low-level side door is equipped with a retractable step to allow passengers to transition from the 8-inch platform to the 22-inch lower-level floor height. The step is located at approximately 16 inches ATOR. In addition, extended vertical handholds are located inside the doorways to facilitate the boarding/alighting process. Therefore, Caltrain petitions FRA to accept the EMU vehicle without sill steps, side handholds, end handholds, or uncoupling levers.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by October 19, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Robert C. Lauby,
Associate Administrator for Railroad Safety, Chief Safety Officer.

[FR Doc. 2018-19105 Filed 8-31-18; 8:45 am]

BILLING CODE 4910-06-P